FEDERAL COMMUNICATIONS COMMISSION

47 CFR Part 73

[DA 06-1054; MB Docket No. 05-5; RM-11139]

Radio Broadcasting Services; Morro Bay and Oceano, CA

AGENCY: Federal Communications Commission.

ACTION: Final rule.

SUMMARY: At the request of Lazer Broadcasting Corporation, licensee of Station KLMM(FM), Morro Bay, California, this document reallots Channel 231A from Morro Bay to Oceano, California, as the community's first local transmission service, and modifies the license for Station KLMM(FM) to reflect the new community. Channel 231A is reallotted at Oceano at a site 12.4 kilometers (7.7 miles) south of the community at coordinates 34-59-20 NL and 120-37-56 WL.

DATES: Effective July 3, 2006.

ADDRESSES: Secretary, Federal Communications Commission, 445 12th Street, SW., Room TW-A325, Washington, DC 20554.

FOR FURTHER INFORMATION CONTACT: Victoria M. McCauley, Media Bureau, (202) 418-2180.

SUPPLEMENTARY INFORMATION: This is a summary of the Commission's Report and Order, MB Docket No. 05-5, adopted May 17, 2006, and released May 19, 2006. The Notice of Proposed Rule Making, 70 FR 3667, January 26, 2005, was issued at the request of Lazer Broadcasting Corporation. The full text of this Commission decision is available for inspection and copying during normal business hours in the Commission's Reference Information Center 445 Twelfth Street, SW., Washington, DC 20554. The complete text of this decision may also be purchased from the Commission's duplicating contractor, Best Copy and Printing, Inc., 445 12th Street, SW., Room CY-B402, Washington, DC, 20054, telephone 800-378-3160 or http://www.BCPIWEB.com.

The Commission will send a copy of this Report and Order in a report to be sent to Congress and the Government Accountability Office pursuant to the Congressional Review Act, see 5 U.S.C. 801(a)(1)(A).

List of Subjects in 47 CFR Part 73

Radio, Radio broadcasting.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under California, is amended by removing Channel 231A at Morro Bay and adding Oceano, Channel 231A.

Federal Communications Commission.
John A. Karousos,
Assistant Chief, Audio Division, Media Bureau.

[FR Doc. E6-8955 Filed 6-13-06; 8:45 am]

BILLING CODE 6712-01-P